DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated her responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 3, 2013, through June 28, 2013. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Healthcare Systems Bureau, 5600 Fishers Lane, Room 11C-26, Rockville, Maryland 20857. The Court's caption (Petitioner's Name v. Secretary of Health and Human Services) and the docket number assigned to the petition should be used as the caption for the written submission. Chapter 35 of title 44, United States Code, related to paperwork reduction, does not apply to information required for purposes of carrying out the Program.

Dated: July 25, 2013.
Mary K. Wakefield,
Administrator.

List of Petitions Filed

1. Lauren Genshaft, Woodbury, New York, Court of Federal Claims No: 13-0370V

2. Shelly Crane-McDonald, Cary, North Carolina, Court of Federal Claims No: 13-0371V

3. Michael Berglund, Huntington, Vermont, Court of Federal Claims No: 13-0372V

4. Katherine Brooks, Indianapolis, Indiana, Court of Federal Claims No: 13-0373V

5. Matthias and Annika Nikolakopulos on behalf of A.N., Torrance, California, Court of Federal Claims No: 13-0374V

6. Joseph A. Gomes, M.D., New York, New York, Court of Federal Claims No: 13-0375V

7. William Oberle, Brimley, Michigan, Court of Federal Claims No: 13-0381V

8. Karen G. Schmidt, Post Falls, Idaho, Court of Federal Claims No: 13-0382V

9. David Tomaso, Des Plaines, Illinois, Court of Federal Claims No: 13-0387V

10. Amaryllis R. Munoz-Colon, San Juan, Puerto Rico, Court of Federal Claims No: 13-0388V

11. Elizabeth Johnson, Boston, Massachusetts, Court of Federal Claims No: 13-0389V

12. Lori L. Sweeney on behalf of Luella A. Garlanger, Deceased, St. Joseph, Michigan, Court of Federal Claims No: 13-0392V

13. Katelin B. Arnold, Baraboo, Wisconsin, Court of Federal Claims No: 13-0395V

14. Jasmin Rost, Haworth, New Jersey, Court of Federal Claims No: 13-0397V

15. Aaron P. Wyatt on behalf of J. A. W., Fairhope, Alabama, Court of Federal Claims No: 13-0398V

16. Kenneth R. McClelland, Fresno, California, Court of Federal Claims No: 13-0399V

17. Merit Adams on behalf of Gwendolyn D. Adams, Deceased, Phenix City, Alabama, Court of Federal Claims No: 13-0400V

18. Nancy Skow on behalf of Avery Skow, Rice Lake, Wisconsin, Court of Federal Claims No: 13-0405V

19. Dalan and Elizabeth Dahl on behalf of Lexi Dahl, Deceased, Mesa, Arizona, Court of Federal Claims No: 13-0409V

20. Robert L. Pirrello, Greenwich, Connecticut, Court of Federal Claims No: 13-0411V

21. John and Debra Dwornikoski on behalf of Hanna Dwornikoski, Columbia, New Jersey, Court of Federal Claims No: 13-0412V

22. Patricia Egroff, Jamestown, New York, Court of Federal Claims No: 13-0415V

23. Christina Corrigan, Concord Township, Ohio, Court of Federal Claims No: 13-416V

24. Irene and Allen Rayner on behalf of K.R., Boston, Massachusetts, Court of Federal Claims No: 13-0417V

25. Carol Dorn on behalf of Haley Dorn, Auburn, Alabama, Court of Federal Claims No: 13-0420V

26. Lorena Mora on behalf of Genesis Grace Mora, Baldwin Park, California, Court of Federal Claims No: 13-0421V

27. Sean and Kelly Vanyo on behalf of Carson Vanyo, Greensburg, Pennsylvania, Court of Federal Claims No: 13-0422V

28. Lora Anne Zimmer, Reno, Nevada, Court of Federal Claims No: 13-0423V

29. Billy W. Harden, Daytona Beach, Florida, Court of Federal Claims No: 13-0425V

30. Patricia Hercik, Wadsworth, Ohio, Court of Federal Claims No: 13-0429V

31. Tina Noonan, Decatur, Illinois, Court of Federal Claims No: 13-0430V

32. Robert M. Curry, Temple, Texas, Court of Federal Claims No: 13-0432V

33. Scott Schlosser, Meadville, Pennsylvania, Court of Federal Claims No: 13-0433V

34. Margaret Whitlow, Louisville, Kentucky, Court of Federal Claims No: 13-0436V

[FR Doc. 2013-18381 Filed 7-30-13; 8:45 am]

BILLING CODE 4165-15-P